DEPARTMENT OF STATE

[Public Notice: 12160]

Overseas Security Advisory Council (OSAC) Meeting Notice

ACTION: Closed meeting.

The Department of State announces the meeting of the U.S. State Department's Overseas Security Advisory Council on September 20, 2023. Pursuant to section 10(d) of the Federal Advisory Committee Act (5 U.S.C. appendix), 5 U.S.C. 552b(c)(4), and 5 U.S.C. 552b(c)(7)(E), it has been determined that the meeting will be closed to the public. The meeting will focus on an examination of corporate security policies and procedures, will involve extensive discussion of trade secrets and proprietary commercial information that is privileged and confidential, and will discuss law enforcement investigative techniques and procedures. The agenda will include updated committee reports, global threat overviews, and other matters relating to private sector security policies and protective programs and the protection of U.S. business information overseas.

For more information, contact Ellen Tannor, Overseas Security Advisory Council, U.S. Department of State, Washington, DC 20522-2008, phone: 571-345-2223 email: TannorE@state.gov.

Authority: 5 U.S.C. 1009 and 22 U.S.C. 2651a.

Ellen Tannor,
Executive Director, Overseas Security Advisory Council, Department of State.

[FR Doc. 2023-18724 Filed 8-29-23; 8:45 am]

BILLING CODE 4710-43-P